SURFACE TRANSPORTATION BOARD

[Docket No. FD 36430]

R. J. Corman Railroad Company/Owego & Harford Line, Inc.—Modified Certificate of Public Convenience and Necessity

On August 19, 2020, R. J. Corman Railroad Company/Owego & Harford Line, Inc. (RJOH),¹ a noncarrier subsidiary of R. J. Corman Railroad Company, LLC (RJCR), filed a notice for a modified certificate of public convenience and necessity under 49 CFR part 1150 subpart C—Modified Certificate of Public Convenience and Necessity, to permit RJOH to operate over a rail line owned by the Tioga County Industrial Development Agency (TCIDA), a public agency and political subdivision of the State of New York, located between milepost 0.0 at Owego, N.Y., and milepost 27.6 at North Harford, N.Y. (the Line).²

¹ On August 27, 2020, RJCR and RJOH filed a letter in this and a related docket with additional information relating to a change in RJOH's corporate status from limited liability company to corporation.

² RJCR is a noncarrier and wholly owned subsidiary of R. J. Corman Railroad Group, LLC (RJRG). In a related proceeding, RJCR and RJRG have filed a verified notice of exemption to continue in control of RJOH upon its becoming a Class III rail carrier. See R. J. Corman R.R.—Continuance in Control Exemption—R. J. Corman R.R./Lehigh Line, et al., Docket No. FD 36431. This transaction is also related to the following concurrently filed notices: (1) R. J. Corman R.R./Lehigh Line—Change in Operators Exemption with Interchange Commitment—Lehigh Ry., et al., Docket No. FD 36428, in which R. J. Corman Railroad Company/Lehigh Line, LLC, seeks authority to assume the lease and operation of 56.0 miles of rail line and related industrial track in Bradford and Wyoming Counties, Pa.; and (2) R. J. Corman R.R./Luzerne & Susquehanna Line—Change in Operators Exemption—Luzerne and Susquehanna Ry. et al., Docket No. FD 36429, in which R. J. Corman Railroad Company/Luzerne & Susquehanna Line, LLC, seeks authority to assume the lease and operation of approximately 41.19 miles of rail line in Luzerne and Lackawanna Counties, Pa. The Board sought additional information relating to certain of these transactions by decision served September 17, 2020.

RJOH states that the Line was authorized for abandonment in 1976 and sold to TCIDA in 1981 for continued rail service, and has been operated by the Owego & Harford Railway, Inc. (Owego & Harford), pursuant to a modified rail certificate. (Notice 3, 5.) See Owego & Harford Ry.—Modified Rail Certificate, FD 32063 (ICC served May 15, 1992).

According the notice, RJOH will provide rail service pursuant to an Operating Agreement between Owego & Harford and TCIDA, dated February 13, 2013, which is being assigned to and assumed by RJOH as part of its purchase of the material assets of Owego & Harford. (Notice 6.)

The Line qualifies for a modified certificate of public convenience and necessity. See Common Carrier Status of States, State Agencies & Instrumentalities & Political Subdivisions, FD 28990F (ICC served July 16, 1981); 49 CFR 1150.22. RJOH states that no subsidy is involved and that there will be no preconditions that shippers must meet to receive service. RJOH's notice also includes a certificate of liability insurance coverage. (Notice Ex. C.)

This notice will be served on the Association of American Railroads (Car Service Division), as agent for all railroads subscribing to the car-service and car-hire agreement, at 425 Third Street SW, Suite 1000, Washington, DC 20024; and on the American Short Line and Regional Railroad Association at 50 F Street NW, Suite 500, Washington, DC 20001.

Board decisions and notices are available at www.stb.gov.

Decided: November 2, 2020.
By the Board, Allison C. Davis, Director, Office of Proceedings.
Brendetta Jones,
Clearance Clerk.

[FR Doc. 2020-24663 Filed 11-5-20; 8:45 am]

BILLING CODE 4915-01-P